FEDERAL COMMUNICATIONS COMMISSION

Notice of Public Information Collection(s) Approved by the Office of Management and Budget

August 18, 2008.

SUMMARY: The Federal Communications Commission has received Office of Management and Budget (OMB) approval for the following public information collection(s) pursuant to the Paperwork Reduction Act of 1995 (44 U.S.C. 3501-3520). An agency may not conduct or sponsor a collection of information unless it displays a currently valid OMB control number, and no person is required to respond to a collection of information unless it displays a currently valid OMB control number. Comments concerning the accuracy of the burden estimate(s) and any suggestions for reducing the burden should be directed to the person listed in the FOR FURTHER INFORMATION CONTACT section below.

FOR FURTHER INFORMATION CONTACT: Leslie Haney, Leslie.Haney@fcc.gov, (202) 418-1002.

SUPPLEMENTARY INFORMATION: OMB Control Number: 3060-1080.

OMB Approval Date: August 1, 2008.

Expiration Date: August 31, 2011.

Title: Collection for the Prevention or Elimination of Interference and for the Reconfiguration of the 800 MHz Band.

Form No.: Not applicable.

Estimated Annual Burden: 6,269 responses; 4.5104 hours per response; 28,276 hours total per year.

Obligation to Respond: Required to Obtain or Retain Benefits.

Nature and Extent of Confidentiality: The Commission will work with respondents to ensure that their concerns regarding the confidentiality of any proprietary or public safety-sensitive information are resolved in a manner consistent with the Commission's rules. See 47 CFR 0.459.

Needs and Uses: The information sought will assist 800 MHz licensees in preventing or resolving interference and enable the Commission to implement its rebanding program. Under that program, certain licensees are being relocated to new frequencies in the 800 MHz band, with all rebanding costs to be paid by Sprint Nextel Corporation (Sprint). The Commission's overarching objective in this proceeding is to eliminate interference to public safety communications. The Commission's orders provided for the 800 MHz licensees in non-border areas to complete rebanding by June 26, 2008. This collection is being revised to incorporate the waiver request information collection previously approved under OMB control number 3060-1114.

Federal Communications Commission.
Marlene H. Dortch,
Secretary.

[FR Doc. E8-19650 Filed 8-25-08; 8:45 am]

BILLING CODE 6712-01-P